DEPARTMENT OF ENERGY

Federal Energy Regulatory Commission

[Project No. 77-324]

Pacific Gas & Electric Company; Notice of Application for Temporary Flow Modification Accepted for Filing, Soliciting Comments, Motions To Intervene, and Protests

Take notice that the following hydroelectric application has been filed with the Commission and is available for public inspection:

a. Application Type: Application for Temporary Variance of Flow Requirements.

b. Project No: 77-324.

c. Date Filed: May 1, 2025; supplemented July 16, 2025.

d. Applicant: Pacific Gas & Electric Company.

e. Name of Project: Potter Valley Hydroelectric Project.

f. Location: The project is located on the Eel River and East Fork of the Russian River in Lake and Mendocino counties, California. The project occupies federal lands managed by the U.S. Forest Service.

g. Filed Pursuant to: Federal Power Act, 16 U.S.C. 791a-825r.

h. Applicant Contact: Chadwick McCready, Pacific Gas and Electric Company, 300 Lakeside Drive, Oakland, CA 94612, (530) 685-5710.

i. FERC Contact: Katherine Schmidt, katherine.schmidt@ferc.gov, (415) 369-3348.

j. Cooperating agencies: With this notice, the Commission is inviting federal, state, local, and Tribal agencies with jurisdiction and/or special expertise with respect to environmental issues affected by the proposal, that wish to cooperate in the preparation of any environmental document, if applicable, to follow the instructions for filing such requests described in item k below. Cooperating agencies should note the Commission's policy that agencies that cooperate in the preparation of any environmental document cannot also intervene. See 94 FERC ¶ 61,076 (2001).

k. Deadline for filing comments, motions to intervene, and protests: August 25, 2025.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. The first page of any filing should include the docket number P-77-324. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

l. Description of Request: The licensee requests a temporary variance of its minimum flow requirements. Specifically, the licensee requests to reduce minimum flows in the East Branch Russian River to 20 cubic feet per second (cfs) from November 1, 2025 to November 30, 2025, so that it can inspect, replace, and repair the upper and lower wood stave penstocks that transport water from the Eel River to the Potter Valley Powerhouse. Normally during this period, the licensee would be required to maintain at least 35 cfs at compliance gauge E-16 in the East Branch Russian River pursuant to Article 52, in addition to other contracted water deliveries. While the repair work on the staves is occurring, the licensee proposes to reroute and deliver reduced flows into a small seasonal creek that also connects to the East Branch Russia River near the powerhouse. This variance request cannot be combined with the earlier variance request, filed February 14, 2025, because the seasonal creek has limited capacity and cannot convey the full volume of flows required during the preceding variance when both Article 52 minimum flows and contracted delivery flows are combined. A temporary staff gage will be installed in the seasonal creek to monitor flow releases during the variance.

m. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

n. Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

p. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

q. The Commission's Office of Public Participation (OPP) supports meaningful public engagement and participation in Commission proceedings. OPP can help members of the public, including landowners, community organizations, Tribal members, and others access publicly available information and navigate Commission processes. For public inquiries and assistance with making filings such as interventions, comments, or requests for rehearing, the public is encouraged to contact OPP at (202) 502-6595 or OPP@ferc.gov.

Dated: July 25, 2025.
Carlos D. Clay,
Deputy Secretary.

[FR Doc. 2025-14404 Filed 7-29-25; 8:45 am]

BILLING CODE 6717-01-P